DEPARTMENT OF TRANSPORTATION

National Highway Traffic Safety Administration

[Docket Number NHTSA-05-23389-2]

Reports, Forms and Record Keeping Requirements Agency Information Collection Activity Under OMB Review

AGENCY: National Highway Traffic Safety Administration (NHTSA), Department of Transportation.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on December 22, 2005 (70 FR 76105).

DATES: OMB approval has been requested by April 26, 2006.

FOR FURTHER INFORMATION CONTACT: Samuel Daniel, Jr. at the National Highway Traffic Safety Administration (NHTSA), Office of Crash Avoidance Standards (NVS-120), (202) 366-4921. 400 Seventh Street, SW., Washington DC 20590.

SUPPLEMENTARY INFORMATION:

National Highway Traffic Safety Administration

Title: 49 CFR 571.138, Tire Pressure Monitoring Systems.

OMB Number: 2127-0631.

Type of Request: Extension of a currently approved collection.

Abstract: NHTSA issued a final rule in April 2005, FMVSS No. 138, Tire pressure monitoring systems, in response to section 13 of the Transportation Recall Enhancement, Accountability, and Documentation Act (TREAD). FMVSS No. 138 specifies that compliance with the standard be phased-in over a three-year period beginning on October 5, 2005 as follows: Between October 5, 2005 and August 31, 2006, 20 percent of new vehicles produced by each manufacturer must comply with FMVSS No. 138; 70 percent of the vehicles produced between September 1, 2006 and August 31, 2007 must comply with the Standard; and all vehicles built on or after September 1, 2007 must comply with FMVSS No. 138. The agency decided to include a carry-forward credit feature in FMVSS No. 138, which provides vehicle manufacturers the opportunity to count compliant vehicles manufactured in a given year toward the phase-in percentage requirements for one of the subsequent phase-in years. The purpose of this data collection request is to obtain OMB approval for the data report specified in 49 CFR part 585, Phase-In Reporting Requirements which requires vehicle manufacturers to provide NHTSA with the vehicle production information needed to determine compliance with the phase-in requirements and to award carry-forward credit.

Affected Public: Business or other for profit organizations.

Estimated Total Annual Burden: 42 man-hours.

Estimated Number of Respondents: 21.

ADDRESSES: Send comments, within 30 days, to the Office of Information and Regulatory Affairs, Office of Management and Budget, 725 17th Street, NW., Washington, DC 20503, Attention NHTSA Desk Officer.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology. A comment to OMB is most effective if OMB receives it prior to April 26, 2006.

Issued on: March 22, 2006.
Stephen R. Kratzke,
Associate Administrator for Rulemaking.

[FR Doc. E6-4379 Filed 3-24-06; 8:45 am]

BILLING CODE 4910-59-P